DEPARTMENT OF HOMELAND SECURITY

Coast Guard

[Docket No. USCG-2023-0830]

National Merchant Mariner Medical Advisory Committee; December 2023 Virtual Meeting

AGENCY: United States Coast Guard, Department of Homeland Security.

ACTION: Notice of open Federal advisory committee virtual meeting.

SUMMARY: The National Merchant Mariner Medical Advisory Committee (Committee) will conduct a virtual meeting to discuss matters relating to medical certification determinations for issuance of licenses, certificates of registry, and merchant mariners' documents, medical standards, and guidelines for the physical qualifications of operators of commercial vessels, medical examiner education, and medical research. The virtual meeting will be open to the public.

DATES: Meeting: The Committee will meet virtually on Tuesday, December 19, 2023, from noon until 3:00 p.m. Eastern Standard Time, (EST). The virtual meeting may adjourn early if the Committee has completed its business.

Comments and supporting documentation: To ensure your comments are received by Committee members before the virtual meeting, submit your written comments no later than December 12, 2023.

ADDRESSES: To join the virtual meeting or to request special accommodations, contact the individual listed in the FOR FURTHER INFORMATION CONTACT section no later than 1 p.m. EST on December 12, 2023, to obtain the needed information.

The Committee is committed to ensuring all participants have equal access regardless of disability status. If you require reasonable accommodation due to a disability to fully participate, please email Ms. Pamela Moore pamela.j.moore@uscg.mil or call 202-372-1361 as soon as possible.

Instructions: You are free to submit comments at any time, including orally at the virtual meeting as time permits, but if you want the Committee members to review your comment before the virtual meeting, please submit your comments no later than December 12, 2023. We are particularly interested in comments regarding the topics in the “Agenda” section below. We encourage you to submit comments through the Federal Decision Making Portal at https://www.regulations.gov. To do so, go to https://www.regulations.gov, type USCG-2023-0830 in the search box and click “Search.” Next, look for this document in the Search Results column, and click on it. If your material cannot be submitted using https://www.regulations.gov, email the individual in the FOR FURTHER INFORMATION CONTACT section of this document for alternate instructions. You must include the docket number USCG-2023-0830. Comments received will be posted without alteration at https://www.regulations.gov. including any personal information provided. You may wish to review the Privacy and Security Notice, found via link on the homepage https://www.regulations.gov. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Ms. Pamela Moore, Alternate Designated Federal Officer of the National Merchant Mariner Medical Advisory Committee, telephone 202-372-1361 or email pamela.j.moore@uscg.mil.

SUPPLEMENTARY INFORMATION: Notice of this meeting is in compliance with the Federal Advisory Committee Act (Pub. L. 117-286, 5 U.S.C., ch. 10). The Committee is authorized by section 601 of the Frank LoBiondo Coast Guard Authorization Act of 2018 (Pub. L. 115-282, 132 Stat. 4192), and is codified in 46 U.S.C. 15104. The Committee operates under the provisions of the Federal Advisory Committee Act and 46 U.S.C 15109. The Committee advises the Secretary of Homeland Security through the Commandant of the United States Coast Guard on matters relating to: (a) medical certification determinations for issuance of licenses, certificates of registry, and merchant mariners' documents; (b) medical standards and guidelines for the physical qualifications of operators of commercial vessels; (c) medical examiner education; and (d) medical research.

AGENDA: The National Merchant Mariner Medical Advisory Committee will meet on Tuesday, December 19, 2023.

The agenda for the December 19, 2023, meeting is as follows:

(1) Introduction.

(2) Designated Federal Officer Remarks.

(3) Roll call of Committee members.

(4) Adoption of the Agenda.

(5) Acceptance of Minutes from Committee Meeting 5.

(6) U.S. Coast Guard Presentations:

(a) 2023 Report on Recommendations to the U.S. Coast Guard from the National Merchant Mariner Medical Advisory Committee;

(b) Presentation of New Merchant Mariner Credential.

(7) Public comment period.

(8) Closing remarks.

(9) Adjournment of meeting.

A copy of all meeting documentation will be available at https://homeport.uscg.mil/missions/federal-advisory-committees/national-merchant-mariner-medical-advisory-committee-(nmedmac) no later than December 12, 2023. Alternatively, you may contact the individual noted in the FOR FURTHER INFORMATION CONTACT section above.

During the December 19, 2023 meeting, a public comment period will be held immediately after the U.S. Coast Guard Presentations, at approximately 2:30 p.m. EST. Public comments will be limited to 3 minutes per speaker and limited to one comment per person. Please note that the public comment period will end following the last call for comments.

Please contact the individual listed in the FOR FURTHER INFORMATION CONTACT section to register as a speaker.

Dated: November 15, 2023.
Jeffrey G. Lantz,
Director of Commercial Regulations and Standards.

[FR Doc. 2023-25618 Filed 11-17-23; 8:45 am]

BILLING CODE 9110-04-P